NUCLEAR REGULATORY COMMISSION

[Docket No. 50-382; NRC-2011-0030]

Entergy Operations, Inc.; Notice of Withdrawal of Application for Amendment to Facility Operating License

The U.S. Nuclear Regulatory Commission (the Commission or NRC) has granted the request of Entergy Operations Inc. (the licensee) to withdraw its application dated February 22, 2010, for a proposed amendment to Facility Operating License No. NPF-38 for the Waterford Steam Electric Station, Unit 3, located in St. Charles Parish, Louisiana.

In view of the originally planned steam generator (SG) replacement during the spring 2011 refueling outage (RFO), the proposed changes would have modified the facility technical specifications (TSs) pertaining to TS 6.5.9, “Steam Generator (SG) Program,” and TS 6.9.1.5, “Steam Generator Tube Inspection Report,” to eliminate the currently allowed SG tube alternate repair criteria and to modify the SG tube inservice inspection frequency. However, the licensee has decided to postpone the SG replacement to the fall 2012 RFO and by letter dated January 19, 2011, withdrew the proposed change.

The Commission had previously issued a Notice of Consideration of Issuance of Amendment published in the Federal Register on April 20, 2010 (75 FR 20633).

For further details with respect to this action, see the application for amendment dated February 22, 2010, and the licensee's letter dated January 19, 2011, which withdrew the application for license amendment (Agencywide Documents Access and Management System (ADAMS) Accession Nos. ML100550137 and ML110210111, respectively). Documents may be examined, and/or copied for a fee, at the NRC's Public Document Room (PDR), located at One White Flint North, Public File Area O1 F21, 11555 Rockville Pike (first floor), Rockville, Maryland. Publicly available records will be accessible electronically from the ADAMS Public Electronic Reading Room on the internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 1st day of February 2011.
For the Nuclear Regulatory Commission.
Nageswaran Kalyanam,
Project Manager, Plant Licensing Branch IV, Division of Operating Reactor Licensing, Office of Nuclear Reactor Regulation.

[FR Doc. 2011-2735 Filed 2-7-11; 8:45 am]

BILLING CODE 7590-01-P